DEPARTMENT OF THE INTERIOR

Geological Survey

Scientific Earthquake Studies Advisory Committee

AGENCY: U.S. Geological Survey, Interior.

ACTION: Notice of meeting.

SUMMARY: Pursuant to Public Law 106-503, the Scientific Earthquake Studies Advisory Committee (SESAC) will hold its tenth meeting. The meeting location is the U.S. Geological Survey Menlo Park Science Center, Building 3, 345 Middlefield Road, Menlo Park, California 94025. The Committee is comprised of members from academia, industry, and State government. The Committee shall advise the Director of the U.S. Geological Survey (USGS) on matters relating to the USGS's participation in the National Earthquake Hazards Reduction Program.

The Committee will review the overall direction of the U.S. Geological Survey's Earthquake Hazards Program in the current and next fiscal years with particular focus on the Program's activities in earthquake physics and earthquake effects research.

Meetings of the Scientific Earthquake Studies Advisory Committee are open to the public.

DATES: April 13, 2005, commencing at 9 a.m. and adjourning at 5 p.m. on April 14, 2005.

FOR FURTHER INFORMATION CONTACT: Dr. David Applegate, U.S. Geological Survey, MS 905, 12201 Sunrise Valley Drive, Reston, Virginia 20192, (703) 648-6714.

Dated: March 24, 2005.
Kathleen M. Johnson,
Acting Associate Director for Geology.

[FR Doc. 05-6441 Filed 3-31-05; 8:45 am]

BILLING CODE 4310-Y7-M